DEPARTMENT OF COMMERCE

Foreign-Trade Zones Board

[B-42-2021]

Foreign-Trade Zone 249—Pensacola, Florida; Application for Reorganization and Expansion Under Alternative Site Framework

An application has been submitted to the Foreign-Trade Zones (FTZ) Board by the Pensacola-Escambia County Promotion & Development Commission, grantee of FTZ 249, requesting authority to reorganize and expand the zone under the alternative site framework (ASF) adopted by the FTZ Board (15 CFR 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the Board (15 CFR part 400). It was formally docketed on May 26, 2021.

FTZ 249 was approved by the FTZ Board on May 23, 2001 (Board Order 1167, 66 FR 30408, June 6, 2001. The current zone includes the following sites: Site 1 (40 acres)—Port of Pensacola, 700 S. Barracks Street, Pensacola; Site 2 (1,400 acres)—Pensacola Regional Airport Complex, 2430 Airport Boulevard, Pensacola; Site 3 (70 acres)—Pensacola Shipyard Marine Complex, 700 South Myrick Street, Pensacola; Site 4 (10 acres)—FDC Industrial Warehouse, 10 Spruce Street, Pensacola; and, Site 5 (140 acres)—Century Industrial Park, Escambia County Road 4 and Industrial Boulevard, Century.

The grantee's proposed service area under the ASF would be Escambia, Okaloosa and Santa Rosa Counties, Florida, as described in the application. If approved, the grantee would be able to serve sites throughout the service area based on companies' needs for FTZ designation. The application indicates that the proposed service area is within and adjacent to the Pensacola U.S. Customs and Border Protection port of entry.

The applicant is requesting authority to reorganize its existing zone to include Sites 1, 2, 3 and 5 as “magnet” sites and that Site 4 be removed. The ASF allows for the possible exemption of one magnet site from the “sunset” time limits that generally apply to sites under the ASF, and the applicant proposes that Site 1 be so exempted. The applicant is also requesting approval of the following “usage-driven” sites for SnackCrate, Inc.: Site 6 (1 acre)—201 East Wright Street, Pensacola; Site 7 (1 acre)—3330 Bill Metzger Lane, Pensacola; and, Site 8 (1 acre)—3867 Palafox Street, Pensacola. The application would have no impact on FTZ 249's previously authorized subzone.

In accordance with the FTZ Board's regulations, Christopher Kemp of the FTZ Staff is designated examiner to evaluate and analyze the facts and information presented in the application and case record and to report findings and recommendations to the FTZ Board.

Public comment is invited from interested parties. Submissions shall be addressed to the FTZ Board's Executive Secretary and sent to: ftz@trade.gov. The closing period for their receipt is August 2, 2021. Rebuttal comments in response to material submitted during the foregoing period may be submitted during the subsequent 15-day period to August 16, 2021.

A copy of the application will be available for public inspection in the “Reading Room” section of the FTZ Board's website, which is accessible via www.trade.gov/ftz. For further information, contact Christopher Kemp at Christopher.Kemp@trade.gov.

Dated: May 26, 2021.
Elizabeth Whiteman,
Acting Executive Secretary.

[FR Doc. 2021-11538 Filed 6-1-21; 8:45 am]

BILLING CODE 3510-DS-P